DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: National Youth Volunteering and Civic Engagement Survey.

OMB Control Number: 0607-0913.

Form Number(s): None.

Type of Request: Reinstatement, with change, of an expired collection.

Burden Hours: 2,000.

Number of Respondents: 8,000.

Average Hours Per Response: 15 minutes.

Needs and Uses: The purpose of this request for review is for the reinstatement of clearance for the National Youth Volunteering and Civic Engagement Survey (NYVCES). Although most questions remain the same from the initial submission, questions from the Civic Engagement Supplement to the Current Population Survey have been added at the request of the Corporation for National and Community Service (the Corporation).

Throughout the history of the United States, Americans have valued an ethic of service. Today, Americans of all ages, backgrounds, and abilities are donating their time and talents to schools, churches, hospitals, and local nonprofits in an effort to improve their communities and serve a purpose greater than themselves. According to data collected over the past 30 years by the U.S. Census Bureau and the Bureau of Labor Statistics, Americans ages 16 and older are volunteering at historically high rates, giving their time to help others by mentoring students, beautifying neighborhoods, restoring homes after disasters, and much, much more.

To deepen our understanding of volunteering among youth in America and to promote its growth, the Corporation has proposed conducting the 2008 NYVCES. This survey will be a continuation of the youth volunteering study conducted in 2005. At that time, Census collected information on volunteering and civic engagement from over 3,100 of the nation's youth ranging in age from 12 to 18 years old. As with the annual collection of adult volunteering activities, a recurring survey of this population will allow Census to track changes in the attitudes and behaviors of America's young people toward volunteering and civic engagement. Measuring the level of youth volunteering activities is critically important because volunteering is no longer just nice to do. It is a necessary aspect of meeting the most pressing needs facing our nation: crime, gangs, poverty, disasters, illiteracy, and homelessness.

Data collection activities for the 2008 NYVCES are scheduled to begin in the fall of 2008. Respondents will provide information on their participation in volunteering and civic engagement activities for the twelve-month period that includes the 2007-2008 academic year and the 2008 summer break. This reference period will be similar to the reference period used in the September Current Population Survey (CPS) Volunteer Supplement and the reference period used in the upcoming 2008 CPS Voting and Civic Engagement Supplement. The design of the survey, which includes questions also asked in the Volunteer and Voting and Civic Engagement Supplements, will allow for our evaluation of youth volunteering to be informed by the overall context of volunteering and civic engagement activities taking place across America by all age groups. All interviews will be conducted at the Census Bureau's Telephone Centers using Computer Assisted Telephone Interviewing (CATI) technology.

The chief purpose of the 2008 survey is to collect information on the motivations, attitudes, experiences, and demographics of youth in relation to volunteering, participation in school-based service and other forms of civic engagement, which will be utilized in promoting, managing, and evaluating volunteer participation at the national level for youth ranging in age from 12 to 18. A study of this rarely-evaluated segment of the volunteering population will provide important information to the Corporation, the federal agency responsible for providing national and community service opportunities for millions of Americans. For example, the Corporation's Learn and Serve America program encourages civic participation and volunteerism throughout the country by supporting service-learning programs that help more than one million young people, from kindergarten through college, meet community needs while improving their academic skills and learning the habits of good citizenship each year. Through the survey, Learn and Serve America will gain valuable information on teens' experience with and their attitudes towards service-learning, civic engagement, and volunteerism.

Not only can teens make positive contributions toward meeting community needs through their volunteer activities, the behaviors and attitudes toward volunteering and civic engagement during childhood are reliable predictors of their behaviors and attitudes in adulthood. Through the survey, the AmeriCorps program, which provides service opportunities for Americans seventeen and older, will gain valuable information on the attitudes of this population toward national and community service. By understanding the unique needs and motivations of the teen population, we can better work to engage them in service both now and in the long term.

Federal, state, and local agencies, nonprofit organizations and associations, schools, volunteer centers, and community and corporate foundations, among others, will use the data from this survey to promote the growth of active teen participation and engagement in the community. Participation patterns and trend information will assist in identifying effective strategies for attracting teens to community service and encouraging them to become actively involved in public and community service.

This survey will collect priority data on educational attainment and school activities, participation in school-based service and volunteer activities, attitudes toward national and community service, and civic attitudes and behaviors. The survey will also collect information on types of organizations with which teens serve, the work teens perform at these organizations, the attitudes and motivations of teens that volunteer, and the reasons why some teens stop volunteering.

Affected Public: Individuals or households.

Frequency: On occasion.

Respondent's Obligation: Voluntary.

Legal Authority: Title 13, United States Code, Section 8.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: June 16, 2008.
Gwellnar Banks,
Management Analyst, Office of the Chief Information Officer.

[FR Doc. E8-13909 Filed 6-19-08; 8:45 am]

BILLING CODE 3510-07-P